DEPARTMENT OF EDUCATION

Office of Special Education and Rehabilitative Services; Overview Information; Technical Assistance and Dissemination to Improve Services and Results for Children With Disabilities—Technical Assistance Center for Evidence-Based Practices To Improve the Social-Emotional Development of Young Children With or At Risk of Disabilities; Notice Inviting Applications for New Awards for Fiscal Year (FY) 2007

Catalog of Federal Domestic Assistance (CFDA) Number:84.326B.

Dates:

Applications Available: March 23, 2007.

Deadline for Transmittal of Applications: May 7, 2007.

Deadline for Intergovernmental Review: July 6, 2007.

Eligible Applicants: State educational agencies (SEAs); local educational agencies (LEAs); public charter schools that are LEAs under State law; institutions of higher education (IHEs); other public agencies, such as lead agencies, public early intervention service programs and public early intervention service providers under Part C of the Individuals with Disabilities Education Act (IDEA); private nonprofit organizations; outlying areas; freely associated States; Indian tribes or tribal organizations; and for-profit organizations.

Estimated Available Funds: $700,000.

Maximum Award: We will reject any application that proposes a budget exceeding $700,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: This program promotes academic achievement and improves results for children with disabilities by supporting technical assistance, model demonstration projects, dissemination of useful information, and implementation activities that are supported by scientifically based research.

Priority: In accordance with 34 CFR 75.105(b)(2)(v), this priority is from allowable activities specified in the statute (see sections 663 and 681(d) of the Individuals with Disabilities Education Act (IDEA), 20 U.S.C. 1400 et seq.).

Absolute Priority: For FY 2007 this priority is an absolute priority. Under 34 CFR 75.105(c)(3), we consider only applications that meet this priority.

This priority is:

Technical Assistance Center for Evidence-Based Practices To Improve the Social-Emotional Development of Young Children With or At Risk of Disabilities

Background:

The early years in a child's life set the foundation for everything that follows. The social-emotional development of the young child is grounded in the interaction of early experiences and feelings with emerging intellectual, linguistic, sensory, and physical abilities. The formation of healthy personalities, appropriate emotions, mutually reinforcing relationships, and constructive behaviors establishes the framework for all other areas of growth, learning, and expression.

Young children with or at risk of disabilities, along with their families, have special needs for additional or different supports and guidance. These supports are necessary to ensure the healthy development of the child in affective, physical, and cognitive domains. Service providers, policymakers, and other early childhood experts are becoming increasingly aware of the need for early intervention to support healthy social-emotional development in young children. Children from birth through two years old have the highest rates of abuse and neglect, in comparison to children in older age groups, and the highest rates of death from victimization (U.S. Department of Health and Human Services, 2004).

In the spring of 2005, a national study conducted at Yale University (Gilliam, 2005) reported that preschool children, aged three through five years old, had the highest expulsion rates in the United States, three times that of school-aged children. These removals from services were primarily associated with “behavioral” issues. National survey data have documented that 10 to 25 percent of children in low-income families present problem behaviors in preschool settings, and their teachers have indicated that these disruptive behavior problems are the most challenging issues they face (Webster-Stratton & Hammond, 1998; Joseph & Strain, 2003).

Research has documented both short- and long-term benefits from early childhood interventions that promote positive social-emotional skills and address challenging behaviors. Specifically, evidence-based early interventions have been shown to decrease withdrawal, aggression, non-compliance, and disruption (Strain & Timm, 2001). Early interventions also foster positive peer relationships, understanding, friendship, cooperation, and sharing (Denham & Burton, 1998), as well as improvement in self-control, self-awareness, and self-satisfaction (Webster-Stratton, 1990). Research also has shown that children's social-emotional competence is associated with later academic success or failure in elementary and secondary schools (Walker, et al., 1998; Reynolds, et al., 2001; Strain & Timm, 2001). In addition, early interventions that promote healthy social-emotional behavior are tied to long-term achievement in the post-secondary education and employment arenas (Barnett, 1993; Karoly, et al., 1998).

In response to findings that abused and neglected children under the age of three may be eligible for, and benefit from, early intervention services under Part C of IDEA, Congress amended the Child Abuse Prevention and Treatment Act (CAPTA) in June, 2003, to require State CAPTA agencies to have policies for the referral to the Part C program of children under the age of three who are involved in a substantiated case of abuse or neglect (CAPTA children). In December, 2004, section 637(a)(6) of IDEA was amended to require the Part C program lead agencies to have policies and procedures regarding the referral to the Part C program of children under the age of three who are CAPTA children, as well as those who are identified as affected by illegal substance abuse, or withdrawal symptoms resulting from prenatal drug exposure.

To further encourage a focus on the social-emotional development of infants, toddlers, and other young children receiving services under IDEA, and as part of the State Performance Plan (SPP) and Annual Performance Report (APR) reporting requirements, the Office of Special Education Programs (OSEP) requires States to report the percent of young children, birth through five years old, receiving services under Parts B and C of IDEA, who show improvement in positive social-emotional skills (including positive social relationships). Specialized technical assistance is needed to ensure that early intervention and early childhood service providers have the knowledge needed to support positive social-emotional development in infants, toddlers, and other young children (birth through five) receiving services under IDEA.

Priority:

This priority supports the establishment and operation of a Technical Assistance Center for Evidence-Based Practices to Improve the Social-Emotional Development of Young Children With or At Risk of Disabilities (Center). This Center must identify, disseminate, and assist in the implementation of the most successful, evidence-based practices available to improve the social, emotional, and behavioral functioning of young children with disabilities. For purposes of this priority, “young children with disabilities” means infants and toddlers from birth through age two with or at risk for developmental delays or disabilities, and young children ages three through five with or at risk for developmental delays or disabilities.

In carrying out its knowledge development activities, the Center must develop the conceptual framework and research base for intervention practices and a cohesive decision-making model related to implementing those practices. The Center's knowledge development activities must include, but are not limited to—

(a) Developing a conceptual framework for the work of the Center that includes evidence-based practices that have been shown to improve early social-emotional outcomes in the context of general learning and development, and a cohesive decision-making model related to implementing those practices. The model must incorporate and distinguish, where appropriate, specific practices targeted toward infants, toddlers, and preschool-aged children with disabilities; and

(b) In year one of the project period, identifying or conducting syntheses of research on evidence-based interventions or practices that have been shown to improve social-emotional outcomes for young children with disabilities, thereby increasing the likelihood that these children will enter school ready to succeed and participate in classrooms with their typically developing peers. To the extent possible, the Center must use the standards established by the What Works Clearinghouse (http://www.whatworks.ed.gov/reviewprocess/study_standards_final/pdf). If it is not possible to use these standards, other rigorous standards must be used to identify evidence-based interventions and practices. The research syntheses must at a minimum address—

(1) Developmentally appropriate practices for providers of early intervention and other services to young children with disabilities that target the critical components of social-emotional development, such as social skills and peer interactions, relationships with adults, recognizing and communicating emotions and desires, problem solving, and adaptive skills including self-regulation (controlling anger and impulse);

(2) Evidence-based intervention methods, materials, and curricula designed for young children that include a focus on social-emotional development and how these methods and materials can be successfully modified, adapted, or individualized for young children with disabilities;

(3) The delivery of evidence-based interventions targeting social-emotional development in a variety of inclusive settings and natural environments;

(4) The delivery of family-centered early intervention services that promote the social-emotional development of infants, toddlers, and other young children with disabilities eligible for services under Part C of IDEA;

(5) Empirically-based assessments, including valid and reliable instruments, for measuring social-emotional development, monitoring individual growth and progress, supporting data-based decision making, aggregating individual child data to evaluate program efforts, and aligning assessments with State early learning, early child development, or school readiness standards and State reporting requirements. Assessments also should cover such areas as self-regulation, response to directions, communication/language, adaptive functioning, autonomy, affect, and social interaction; and

(6) Effective technical assistance (TA) strategies that lead to knowledge utilization, sustainable changes in practice, and improved outcomes.

The Center's TA and dissemination activities must include, but are not limited to—

(a) Developing and coordinating a national TA network comprised of a cadre of experts that the Center will use to provide TA to States in early social-emotional development for young children with disabilities. In their applications, applicants must describe their proposal for this network and identify the cadre of experts;

(b) Providing general TA and information on evidence-based practices that promote the development of social-emotional skills for young children with disabilities to SEAs, lead agencies and other public agencies, service providers, and other stakeholders in all States. This TA and information must reflect the on-going work of the Center to provide up-to-date information on practices that enhance early social-emotional development of young children with disabilities. TA and information must be provided through a variety of vehicles (e.g., Web site; listserv; presentations at national, regional, or State conferences; and conducting national training institutes). The Center's TA and information must be designed to develop the capacity of service providers to use high quality, evidence-based practices in the various inclusive settings and natural environments in which young children with disabilities are served, including the home, community-based settings and programs for typically developing children, other early intervention settings (if identified as appropriate for infants and toddlers), and, for preschool children aged three through five, inclusive or other appropriately-identified preschool, early childhood special education, and related service settings. With respect to children receiving services under Part C of IDEA, the TA and information must include identification of family-centered early intervention services that promote children's social and emotional development. The application must describe the approaches being proposed to provide general TA and information;

(c) In years one and two of the project period, identifying or developing and evaluating models that are based on evidence-based or promising practices and interventions, and that include assessments that promote the development of social-emotional competence in young children with disabilities in a minimum of five local communities of different types (rural, urban, suburban, etc.) serving children from diverse backgrounds in a variety of settings (such as Head Start Programs, early childhood special education programs, home-based programs, State-funded pre-kindergarten programs, etc). While the critical elements of the models should be consistent across the five settings, the models may contain modifications or adaptations that are based on the setting context. Models must be identified or developed for providers and programs serving young children with disabilities under Part C and Part B of IDEA. Models must include the creation and implementation of professional development plans that enhance early childhood professionals' implementation of evidence-based and high quality interventions and practices. Professional development plans must include early intervention and early childhood special education providers and may include other early care and education providers serving young children with disabilities, such as providers in Head Start/Early Head Start, child care, school-based preschools funded under Title I of the Elementary and Secondary Education Act of 1965, as amended (ESEA), and State-funded pre-kindergarten programs. The Center must document factors that facilitate fidelity of implementation and are necessary to sustain the model;

(d) In years three, four, and five of the project period, facilitating the development of State-wide or regional TA networks specifically focused on increasing the use of evidence-based practices that improve social-emotional outcomes of young children with disabilities by scaling-up models identified and/or developed and evaluated in years one and two in accordance with paragraph (c). These TA networks must include systems for training and supporting State-funded or program-funded “coaches” who will provide TA to regional, State, and local early intervention and early childhood special education programs and providers, and other early childhood professionals and agencies serving young children with disabilities (such as Head Start/Early Head Start, child care, school-based preschool programs funded under Title I of the ESEA, and State-funded pre-kindergarten programs). These TA networks also must include State and local early childhood program administrators (Part C early intervention lead agency staff and early intervention service providers, Part B early childhood staff, section 619 IDEA coordinators, child care administrators, Head Start administrators, and pre-kindergarten administrators), families, early childhood professional development experts (including experts from community colleges and other IHEs), researchers, early childhood TA experts, and others. The Center must allocate sufficient resources and time to develop strong TA networks and must give priority to working with States or regions most in need. Applicants must describe in their applications the process for creating sustainable networks and criteria for choosing the States or regions with whom they will work, including child outcome data reported on State Annual Performance Reports. This State selection process must involve consultation with OSEP; and

(e) Developing and implementing a plan for involving and communicating with families on the work of the Center. This plan must be developed in collaboration with OSEP-funded parent programs, including representatives from both the Parent Training and Information Centers and the Community Parent Resource Centers funded by the Department, and must include strategies to ensure involvement and communication with diverse and hard-to-reach families;

(f) Coordinating the Center's and the TA networks' activities with other IDEA-funded early intervention and early childhood special education TA centers. For example, the Center must build on the work of other federally funded early childhood projects where applicable, such as the Research and Training Center in Early Childhood Development and the Center for Evidence-Based Practice: Young Children with Challenging Behavior. The Center must coordinate activities with the National Early Childhood Technical Assistance Center (NECTAC), the Regional Resource Centers (RRCs), and the Early Childhood Outcomes (ECO) Center;

(g) Coordinating the Center's and the TA networks' activities with other national, regional, State, and local early childhood training and TA efforts, including but not limited to efforts that target Head Start/Early Head Start, child care, school-based preschool programs under Title I of the ESEA, and State-funded pre-kindergarten programs. The Center should coordinate with the Center on the Social and Emotional Foundations for Early Learning (CSEFEL), a joint project of the Office of Head Start and the Child Care Bureau in the U.S. Department of Health and Human Services;

(h) Evaluating the Center's and TA networks' activities by measuring the impact of TA activities on early childhood program and service professionals and families of young children with disabilities. Specifically, the Center must document what these practitioners and families learned and how TA affected their use of evidence-based practices that promote positive social-emotional development in young children with disabilities; and

(i) Maintaining a Web site that is available to early childhood professionals and families and includes all TA materials prepared by the Center in a format that meets a government or industry-recognized standard for accessibility.

The Center also must—

(a) Establish, maintain, and meet at least annually with a national advisory group that includes families of young children with disabilities, early intervention service providers and early childhood special education providers, experts in early childhood psychology and development, national early childhood organizations, and community members involved with young children with disabilities. The national advisory group will be responsible for providing annual feedback on the plans, activities, and accomplishments of the Center;

(b) Maintain ongoing communication with the OSEP Project Officer, including monthly conference calls. Budget for a three-day Project Directors' meeting in Washington, DC during each year of the project, plus one additional two-day trip annually to Washington, DC to attend additional national meetings and to meet and collaborate with the OSEP Project Officer and other funded projects for purposes of cross-project collaboration and information exchange; and

(c) Budget five percent of the grant amount annually to support emerging needs as identified jointly through consultation with the OSEP project officer.

Fourth and Fifth Years of the Project:

In deciding whether to continue funding the Center for the fourth and fifth years, the Secretary will consider the requirements of 34 CFR 75.253(a), and in addition—

(a) The recommendation of a review team consisting of experts selected by the Secretary, which review will be conducted during the last half of the project's second year in Washington, DC. Projects must budget for travel expenses associated with this one-day intensive review;

(b) The timeliness and effectiveness with which all requirements of the negotiated cooperative agreement have been or are being met by the Center; and

(c) The degree to which the project promotes best practices in the area of IDEA and other services to young children with disabilities.

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

References

Barnett, W.S. (1993). Benefit-cost analysis of preschool education: Findings from a 25-year follow-up. American Journal of Orthopsychiatry, 63, 500-508.

Denham, S.A., & Burton, R. (1996). A social-emotional intervention for at-risk 4-year-olds. Journal of School Psychology, 34, 225-245.

Gilliam, W.S. (2005). Prekindergarteners left behind: Expulsion rates in state prekindergarten systems. Amherst: Yale (Retrieved July 20, 2005, from http://www.fcd-us.org/PDFs/National PreKExpulsionPaper03.02_new.pdf)

Joseph, G.E., & Strain, P.S. (2003). Comprehensive evidence-based social emotional curricula for young children: An analysis of efficacious adoption potential. Topics in Early Childhood Special Education, 23, 65-76.

Karoly, L.A., Greenwood, P.W., Everingham, S.S., Hoube, J., Kilburn, M.R., Rydell, C.P., Sanders, M., & Chiesa, J. (1998). Investing in our children: What we know and don't know about the costs and benefits of early childhood interventions. Santa Monica, CA: Rand.

Reynolds, A.J., Temple, J.A., Robertson, D.L., & Mann, E.A. (2001). Long-term effects of an early childhood intervention on educational achievement and juvenile arrest: A 15-year follow-up of low-income children in public schools. Journal of the American Medical Association, 285, 2339-2346.

Strain, P.S., & Timm, M.A. (2001). Remediation and prevention of aggression: An evaluation of the Regional Intervention Program over a quarter of a century. Behavioral Disorders, 26, 297-313.

U.S. Department of Health and Human Services, Administration on Children, Youth and Families. Child Maltreatment 2004 (Washington, DC: U.S. Government Printing Office, 2006).

Walker, H.M., Kavanagh, K., Stiller, B., Golly, A., Severson, H.H., & Feil, E.G. (1998). First Step to Success: An early intervention approach for preventing school antisocial behavior. Journal of Emotional and Behavioral Disorders, 6, 66-80.

Webster-Stratton, C. (1990). Long-term follow-up of families with young conduct-problem children: From preschool to grade school. Journal of Clinical Child Psychology, 19, 144-149.

Webster-Stratton, C. & Hammond, M. (1998). Conduct problems and level of social competence in Head Start children: Prevalence, pervasiveness, and associated risk factors. Clinical Child Psychology, 65, 93-109.

II. Award Information

Type of Award: Cooperative agreement.

Estimated Available Funds: $700,000.

Maximum Award: We will reject any application that proposes a budget exceeding $700,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; LEAs; public charter schools that are LEAs under State law; IHEs; other public agencies, such as lead agencies, public early intervention service programs and public early intervention service providers under Part C of IDEA; private nonprofit organizations; outlying areas; freely associated States; Indian tribes or tribal organizations; and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326B.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the coversheet; Part II, the budget section, including the narrative budget justification; Part IV, the assurances and certifications; or the one-page abstract, the resumes, the bibliography, references, or the letters of support. However, you must include all of the application narrative in Part III.

We will reject your application if—

• You apply these standards and exceed the page limit; or

• You apply other standards and exceed the equivalent of the page limit.

3. Submission Dates and Times:

Applications Available: March 23, 2007.

Deadline for Transmittal of Applications: May 7, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under For Further Information Contact.

Deadline for Intergovernmental Review: July 6, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2007. The Technical Assistance Center for Evidence-Based Practices to Improve the Social-Emotional Development of Young Children With or At Risk of Disabilities, CFDA Number 84.326B, is one of the programs included in this project. We request your participation in Grants.gov.

If you choose to submit your application electronically, you must use the Grants.gov Apply site at http://www.grants.gov. Through this site, you will be able to download a copy of the application package, complete it offline, and then upload and submit your application. You may not e-mail an electronic copy of a grant application to us.

You may access the electronic grant application for the Technical Assistance Center for Evidence-Based Practices to Improve the Social-Emotional Development of Young Children With or At Risk of Disabilities at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http:// e-Grants.ed.gov/help/GrantsgovSubmissionProcedures.pdf.

• To submit your application via Grants.gov, you must complete all of the steps in the Grants.gov registration process (see http://www.grants.gov/applicants/get_registered.jsp). These steps include (1) Registering your organization, (2) registering yourself as an Authorized Organization Representative (AOR), and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Assistance (SF 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326B), 400 Maryland Avenue, SW., Washington, DC 20202-4260 or

By mail through a commercial carrier: U.S. Department of Education, Application Control Center—Stop 4260, Attention: (CFDA Number 84.326B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326B), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 11 of the Application for Federal Assistance (SF 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed measures that will yield information on various aspects of the Technical Assistance and Dissemination to Improve Services and Results for Children with Disabilities program. These measures focus on: the extent to which projects provide high quality products and services, the relevance of project products and services to educational and early intervention policy and practice, and the use of products and services to improve educational and early intervention policy and practice.

Grantees will be required to provide information related to these measures.

Grantees also will be required to report information on their projects' performance in annual reports to the Department (34 CFR 75.590).

VII. Agency Contact

For Further Information Contact: Dr. Beth Caron, U.S. Department of Education, 400 Maryland Avenue, SW., Room 4066, Potomac Center Plaza, Washington, DC 20202-2550. Telephone: (202) 245-7293.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 19, 2007.
John H. Hager,
Assistant Secretary for Special Education and Rehabilitative Services.

[FR Doc. E7-5377 Filed 3-22-07; 8:45 am]

BILLING CODE 4000-01-P